DEPARTMENT OF AGRICULTURE

Submission for OMB Review; Comment Request; Reinstatement

The Department of Agriculture will submit the following information collection requirement(s) to the Office of Management and Budget (OMB) for review and reinstatement under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by August 10, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Census of Aquaculture.

OMB Control Number: 0535-0237.

Summary of Collection: The Census of Aquaculture is one of a series of special study programs that comprise the follow-on study to the Census of Agriculture and is designed to provide detailed statistics on the aquaculture industry. The primary objective of the 2023 Census of Aquaculture is to obtain a comprehensive and detailed picture of the aquaculture sector of the economy. The Census of Aquaculture is the only source of comparable and consistent data at the national and State levels for the aquaculture industry. The Census of Aquaculture will cover all operations, commercial or noncommercial, for which $1,000 or more of aquaculture products were sold or normally would have been sold during the census year. Data from the 2023 Census of Aquaculture will be tabulated to provide benchmark statistics at the U.S. and State levels. These data will provide information on the aquaculture industry necessary for policy makers to implement regulations affecting the growth of the industry and the wellbeing of the economy.

The census of agriculture is required by law under the “Census of Agriculture Act of 1997,” Public Law 105-113 (Title 7, United States Code, section 2204g). The law authorizes the Secretary of Agriculture to conduct surveys deemed necessary to furnish annual or other data on the subjects covered by the census. The 2023 Census of Aquaculture Survey will be conducted under the provisions of this section. Response to this follow-on census is required by law.

Need and Use of the Information: The National Agricultural Statistics Service will collect data to provide a comprehensive inventory on the number of operations, freshwater and saltwater acreage used for aquaculture production, water sources used for production, methods of production, total production, sales outlets, value of aquaculture products sold and sales by aquaculture species, products distributed for recreation, restoration, or conservation by species. These data will provide information on the aquaculture industry necessary for farmers, government, and various groups, concerned with the aquaculture industry to evaluate policy and programs, make marketing decisions, and determine the economic impact on the economy.

Description of Respondents: Farms; Business or other for-profit.

Number of Respondents: 6,600.

Frequency of Responses: Reporting: Annually.

Total Burden Hours: 3,326.

Levi S. Harrell,
Departmental Information Collection Clearance Officer.

[FR Doc. 2023-14591 Filed 7-10-23; 8:45 am]

BILLING CODE 3410-20-P